DEPARTMENT OF THE INTERIOR

Fish and Wildlife Service

[Docket No. FWS-R9-IA-2011-0087; 96300-1671-0000 FY12 R4]

Conference of the Parties to the Convention on International Trade in Endangered Species of Wild Fauna and Flora (CITES); Sixteenth Regular Meeting; Public Meeting

AGENCY: Fish and Wildlife Service, Interior.

ACTION: Notice of meeting date change.

SUMMARY: The United States, as a Party to the Convention on International Trade in Endangered Species of Wild Fauna and Flora (CITES), will attend the sixteenth regular meeting of the Conference of the Parties to CITES (CoP16) in Bangkok, Thailand, during March 3 to 15, 2013. Currently, the United States is developing its negotiating positions on proposed resolutions, decisions, and amendments to the CITES Appendices (species proposals), as well as other agenda items that have been submitted by other Party countries, the permanent CITES committees, and the CITES Secretariat for consideration at CoP16. In a notice published on November 9, 2012, we announced a public meeting to be held on December 5, 2012, to discuss the items on the provisional agenda for CoP16. This notice revises the previously announced date of the public meeting.

DATES: The public meeting will be held on December 13, 2012, at 1:30 p.m.

ADDRESSES: The public meeting will be held in the Sidney Yates Auditorium at the Main Interior Building at 18th and C Streets NW., Washington, DC. Directions to the building can be obtained by contacting the Division of Management Authority (see FOR FURTHER INFORMATION CONTACT). For more information about the meeting, see “Announcement of Public Meeting” under SUPPLEMENTARY INFORMATION.

FOR FURTHER INFORMATION CONTACT: Robert R. Gabel, Chief, Division of Management Authority; telephone 703-358-2095; facsimile 703-358-2298.

SUPPLEMENTARY INFORMATION:

Background

The Convention on International Trade in Endangered Species of Wild Fauna and Flora, hereinafter referred to as CITES or the Convention, is an international treaty designed to control and regulate international trade in certain animal and plant species that are now or potentially may become threatened with extinction. These species are listed in Appendices to CITES, which are available on the CITES Secretariat's Web site at http://www.cites.org/eng/app/index.php. Currently, 176 countries, including the United States, are Parties to CITES. The Convention calls for regular biennial meetings of the Conference of the Parties, unless the Conference of the Parties decides otherwise. At these meetings, the Parties review the implementation of CITES, make provisions enabling the CITES Secretariat in Switzerland to carry out its functions, consider amendments to the lists of species in Appendices I and II, consider reports presented by the Secretariat and the permanent CITES committees (Standing, Animals, and Plants Committees), and make recommendations for the improved effectiveness of CITES. Any country that is a Party to CITES may propose amendments to Appendices I and II, resolutions, decisions, and agenda items for consideration by all the Parties at the meetings.

On November 9, 2012, we published a notice in the Federal Register (77 FR 67390) that announced the provisional agenda for CoP16, solicited comments on the items on the provisional agenda, and announced a public meeting to discuss the items on the provisional agenda. In that notice, we announced that the public meeting would be held on December 5, 2012, in the Sidney Yates Auditorium at the Main Interior Building at 18th and C Streets NW., Washington, DC. The date of that public meeting has now been changed. The public meeting will be held on the date specified in the DATES section and at the address specified in the ADDRESSES section. You can obtain directions to the building by contacting the Division of Management Authority (see the FOR FURTHER INFORMATION CONTACT section above). Please note that the Sidney Yates Auditorium is accessible to the handicapped, and all persons planning to attend the meeting will be required to present photo identification when entering the building. Persons who plan to attend the meeting and who require interpretation for the hearing impaired must notify the Division of Management Authority by December 5, 2012. For those who cannot attend the public meeting but are interested in watching via live stream, please go to our Web site http://www.fws.gov/international/cites/cop16/, and look for the link to the live feed.

Future Actions

Through an additional notice and Web site posting in advance of CoP16, we will inform you about tentative U.S. negotiating positions on species proposals, proposed resolutions, proposed decisions, and agenda items that were submitted by other Party countries, the permanent CITES committees, and the CITES Secretariat for consideration at CoP16.

Author

The primary author of this notice is Mark Albert, Division of Management Authority.

Authority

This action is authorized by the U.S. Endangered Species Act of 1973, as amended (16 U.S.C. 1531 et seq.).

Dated: November 26, 2012.
Susan L. Wilkinson,
Alternate Federal Register Liaison.

[FR Doc. 2012-28897 Filed 11-26-12; 4:15 pm]

BILLING CODE 4310-55-P